DEPARTMENT OF HEALTH AND HUMAN SERVICES

Substance Abuse and Mental Health Services Administration

Center for Mental Health Services; Notice of Meeting

Pursuant to Public Law 92-463, notice is hereby given of the meeting of the Center for Mental Health Services (CMHS) National Advisory Council in June 2004.

A portion of the meeting will be open and will include a roll call, general announcements, Director's and Administrator's Reports, and discussions about activities and initiatives critical to Mental Health Transformation. A panel on Mental Health Transformation State Incentive Grants (SIG) will include presentations from key mental health officials, State as well as Federal, regarding ideas for the design of a SIG program and transformation initiatives begun in states. Representatives from Federal Agencies and Departments who are partners on implementing mental health transformation will discuss their strategies to transform mental health care throughout our States and communities. In addition, CMHS staff will discuss two activities: an anti-bullying campaign and the elimination of barriers initiative.

Public comments are welcome. Attendance by the public will be limited to space available. Please communicate with the individual listed as contact below for guidance. If anyone needs special accommodations for persons with disabilities please notify the contact listed below.

The meeting will also include the review, discussion, and evaluation of grant applications. Therefore a portion of the meeting will be closed to the public as determined by the SAMHSA Administrator, in accordance with Title 5 U.S.C. 552b(c)(6) and 5 U.S.C. App. 2. section 10(d).

A summary of the meeting and a roster of Council members may be obtained from Ms. Dale Kaufman, Executive Secretary, CMHS, Room 17-C-14, Parklawn Building, Rockville, Maryland 20857, telephone (301) 443-2660. The transcript for the open session will be available on the following Web site: www.samhsa.gov.

Committee Name: Center for Mental Health Services, National Advisory Council.

Meeting Date: June 16-17, 2004.

Place: Parkview Room, Hotel Washington, 15th and Pennsylvania Ave., NW., Washington, DC.

Type:

Open: June 16, 2004 9 a.m.-4:30 p.m. June 17, 2004 10:30 a.m.-12 noon.

Closed: June 17, 2004 9 a.m.—10:30 a.m.

Contact: Dale Kaufman, MPH, MA, Executive Secretary, 5600 Fishers Lane, Parklawn Building, Room 17-99, Rockville, Maryland 20857, Telephone: (301) 443-2660 and FAX (301) 443-1563.

Dated: June 10, 2004.
Toian Vaughn,
Committee Management Officer, Substance Abuse and Mental Health Services Administration.

[FR Doc. 04-13676 Filed 6-16-04; 8:45 am]

BILLING CODE 4162-20-P